FEDERAL ELECTION COMMISSION

[Notice 2007-25]

Filing Dates for the Illinois Special Election in the 14th Congressional District

AGENCY: Federal Election Commission.

ACTION: Notice of filing dates for special election.

SUMMARY: Illinois has scheduled elections on February 5, 2008, and March 8, 2008, to fill the U.S. House of Representatives seat in the Fourteenth Congressional District vacated by Representative J. Dennis Hastert.

Committees required to file reports in connection with the Special Primary Election on February 5, 2008, shall file a 12-day Pre-Primary Report. Committees required to file reports in connection with both the Special Primary and Special General Election on March 8, 2008, shall file a 12-day Pre-Primary Report, a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Illinois Special Primary and Special General Elections shall file a 12-day Pre-Primary Report on January 24, 2008; a 12-day Pre-General Report on February 25, 2008; and a 30-day Post-General Report on April 7, 2008. (See chart below for the closing date for each report).

All principal campaign committees of candidates participating only in the Special Primary Election shall file a 12-day Pre-Primary Report on January 24, 2008. (See chart below for the closing date for each report).

Unauthorized Committees (PACs and Party Committees)

Political committees filing on a quarterly basis in 2008 are subject to special election reporting if they make previously undisclosed contributions or expenditures in connection with the Illinois Special Primary or Special General Elections by the close of books for the applicable report(s). (See chart below for the closing date for each report).

Since disclosing financial activity from two different calendar years on one report would conflict with the calendar year aggregation requirements stated in the Commission's disclosure rules, unauthorized committees that trigger the filing of the Pre-Primary Report will be required to file this report on two separate forms. One form to cover 2007 activity, labeled as the Year-End Report; and the other form to cover only 2008 activity, labeled as the Pre-Primary Report. Both forms must be filed by January 24, 2008.

Committees filing monthly that support candidates in the Illinois Special Primary or Special General Election should continue to file according to the monthly reporting schedule.

Additional disclosure information in connection with the Illinois Special Election may be found on the FEC Web site at http://www.fec.gov/info/report_dates.shtml.

Report | Close of books¹ | Reg./Cert. & overnight mailing deadline | Filing deadline
Calendar of Reporting Dates for Illinois Special Election Committees Involved inOnly the Special Primary (02/05/08), Must File
Year-End | —Waived—
Pre-Primary | 01/16/08 | 01/21/08 | 01/24/08
April Quarterly | 03/31/08 | 04/15/08 | 04/15/08
Committees Involved in Both the Special Primary (02/05/08) and Special General (03/08/08), Must File:
Year-End | —Waived—
Pre-Primary | 01/16/08 | 01/21/08 | 01/24/08
Pre-General | 02/17/08 | 02/22/08 | 02/25/08
Post-General | 03/31/08 | 04/07/08 | 04/07/08
April Quarterly | —Waived—
July Quarterly | 06/30/08 | 07/15/08 | 07/15/08
Committees Involved in Only the Special General (03/08/08), Must File
Pre-General | 02/17/08 | 02/22/08 | 02/25/08
Post-General | 03/31/08 | 04/07/08 | 04/07/08
April Quarterly | —Waived—
July Quarterly | 06/30/08 | 07/15/08 | 07/15/08
¹ The period begins with the close of books of the last report filed by the committee. If the committee has filed no previous reports, the period begins with the date of the committee's first activity.

Dated: December 11, 2007.
Robert D. Lenhard,
Chairman, Federal Election Commission.

[FR Doc. E7-24296 Filed 12-14-07; 8:45 am]

BILLING CODE 6715-01-P